DEPARTMENT OF THE INTERIOR

Bureau of Indian Affairs

Indian Gaming

AGENCY: Bureau of Indian Affairs, Interior.

ACTION: Notice of Approved Amended Gaming Compact.

SUMMARY: This notice publishes the approval of the Amended Gaming Compact between the Sisseton-Wahpeton Sioux Tribe and the State of North Dakota; the Amended Gaming Compact between the Spirit Lake Nation and the State of North Dakota; the Amended Gaming Compact between the Standing Rock Sioux Tribe and the State of North Dakota; the Amended Gaming Compact between the Three Affiliated Tribes of the Fort Berthold Reservation and the State of North Dakota; and the Amended Gaming Compact between the Turtle Mountain Band of Chippewa Indians and the State of North Dakota.

DATES: Effective Date: March 21, 2013.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA) Public Law 100-497, 25 U.S.C. 2701(d)(3)(B), the Secretary of the Interior shall publish in the Federal Register notice of approved Tribal-State compacts for the purpose of engaging in Class III gaming activities on Indian lands. On January 24, 2013, the State of North Dakota (State) and five Tribes, the Sisseton-Wahpeton Oyate Tribe of the Lake Traverse Reservation, the Spirit Lake Tribe, the Standing Rock Sioux Tribe of North and South Dakota, the Three Affiliated Tribes of the Fort Berthold Reservation and the Turtle Mountain Band of Chippewa Indians of North Dakota, (Tribes) submitted Amended Class III Tribal-State Compacts for review and approval. The Compacts expand Class III gaming on tribal trust lands and waters within the exterior boundaries of the Tribes' reservations, which are in compliance with the IGRA. The term of the Compacts runs for 10 years from the date of this notice.

Dated: March 12, 2013.
Lawrence S. Roberts,
Deputy Assistant Secretary—Indian Affairs.

[FR Doc. 2013-06446 Filed 3-20-13; 8:45 am]

BILLING CODE 4310-4N-P